NUCLEAR REGULATORY COMMISSION

[NRC-2016-0016]

Information Collection: NRC Forms 366, 366A, and 366B, “Licensee Event Report”; Correction

AGENCY: Nuclear Regulatory Commission.

ACTION: Notice of submission to the Office of Management and Budget; request for comment; extension of comment period and correction.

SUMMARY: The U.S. Nuclear Regulatory Commission (NRC) is correcting a notice that was published in the Federal Register (FR) on November 30, 2016, regarding Notice of submission to the Office of Management and Budget; request for comment. This action is necessary to amend the annual responses and burden hours to include the burden and responses associated cyber security events.

DATES: The correction is effective January 3, 2017.

ADDRESSES: Submit comments directly to the OMB reviewer at: Vlad Dorjets, Desk Officer, Office of Information and Regulatory Affairs (3150-0104), NEOB-10202, Office of Management and Budget, Washington, DC 20503; telephone: 202-395-7315, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION: In the FR on November 30, 2016, in FR Doc. 2016-0016, on page 86344, in the first column, the second sentence in the response to question 5 is changed from “The total number of reports is estimated to be 350 per year” to “The total number of reports is estimated to be 442 per year”. In the first column, the response to question 7 is changed from “The total number of reports is estimated to be 350 per year” to “The total number of responses is estimated to be 542 per year (442 reporting responses plus 100 recordkeepers)”. In the first column, the response to question 9 is changed from “The total estimated burden from completing Licensee Event Reports is 28,000 hours (based on 80 hours for each of 350 reports)” to “The total estimated burden from completing Licensee Event Reports is 35,360 hours (28,288 hours reporting plus 7,072 hours recordkeeping)”.

Dated at Rockville, Maryland, this 23rd day of December, 2016.
For the Nuclear Regulatory Commission.
David Cullison,
NRC Clearance Officer, FOIA, Privacy and Information Collections Branch, Customer Services Division, Office of the Chief Information Officer.

[FR Doc. 2016-31768 Filed 12-30-16; 8:45 am]

BILLING CODE 7590-01-P